DEPARTMENT OF HEALTH AND HUMAN SERVICES

Announcement of Requirements and Registration for “Million Hearts Challenge”

AGENCY: Office of the National Coordinator for Health Information Technology, HHS.

ACTION: Notice.

Authority: 15 U.S.C. 3719.

SUMMARY: The “Million Hearts Challenge” is a multidisciplinary call to innovators and developers to create an application that activates and empowers patients to take charge of their cardiovascular disease. Winning entries have the potential to help patients combat the nation's leading cause of death through medication adherence, a healthier diet, and a more active lifestyle while promoting the goals of the Million Hearts campaign.

The statutory authority for this challenge competition is Section 105 of the America COMPETES Reauthorization Act of 2010 (Pub. L. No. 111-358).

DATES: Effective on September 26, 2011.

FOR FURTHER INFORMATION CONTACT:

Adam Wong, 202-720-2866.

Wil Yu, 202-690-5920.

SUPPLEMENTARY INFORMATION: Subject of Challenge Competition: This challenge encourages multidisciplinary teams to develop a user-friendly application (optimized for mobile web access) that engages sufferers of cardiovascular disease in their own care using the Million Hearts' ABCs framework (Aspirin for people at high risk, Blood pressure control, Cholesterol management, and Smoking cessation). The application should allow patients to enter relevant information about their health including age, body mass index, blood pressure, cholesterol level, smoking status, pertinent medical history, aspirin and cholesterol-lowering agent use; use the patient-reported data and ABCs framework to generate targeted recommendations, based on information from the American Heart Association and CDC Million Hearts websites; be able to send patient information to electronic health records; and provide information about the Million Hearts campaign.

Eligibility Rules for Participating in the Competition: To be eligible to win a prize under this challenge, an individual or entity:

(1) Shall have registered to participate in the competition under the rules promulgated by Office of the National Coordinator for Health Information Technology;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

An individual or entity shall not be deemed ineligible because the individual or entity used Federal facilities or consulted with Federal employees during a competition if the facilities and employees are made available to all individuals and entities participating in the competition on an equitable basis.

Registered participants shall be required to agree to assume any and all risks and waive claims against the Federal Government and its related entities, except in the case of willful misconduct, for any injury, death, damage, or loss of property, revenue, or profits, whether direct, indirect, or consequential, arising from their participation in a competition, whether the injury, death, damage, or loss arises through negligence or otherwise.

Participants shall be required to obtain liability insurance or demonstrate financial responsibility, in amounts determined by the head of the Office of the National Coordinator for Health Information Technology, for claims by—

(1) A third party for death, bodily injury, or property damage, or loss resulting from an activity carried out in connection with participation in a competition, with the Federal Government named as an additional insured under the registered participant's insurance policy and registered participants agreeing to indemnify the Federal Government against third party claims for damages arising from or related to competition activities; and

(2) the Federal Government for damage or loss to Government property resulting from such an activity.

Participants must be teams of at least two people.

All participants are required to provide written consent to the rules upon or before submitting an entry.

DATES:

• Submission Period Begins: 12:01 a.m., E.D.T., September 26, 2011.

• Submission Period Ends: 11:59 p.m., E.D.T., December 31, 2011.

Registration Process for Participants:

To register for this challenge participants should:

• Access the http://www.challenge.gov Web site and search for the “Million Hearts Challenge”.

• Access the ONC Investing in Innovation (i2) Challenge Web site at:

○ http://www.health2challenge.org/category/onc/.

○ A registration link for the challenge can be found on the landing page under the challenge description.

Amount of the Prize:

• First Prize: $50,000.

• Second Prize: $20,000.

• Third Prize: $5,000.

Awards may be subject to Federal income taxes and HHS will comply with IRS withholding and reporting requirements, where applicable.

Basis Upon Which Winner Will Be Selected:

The judging panel will make selections based upon the following criteria:

1. Patient engagement.

2. Actionable and accessible information.

3. Links to online communities.

4. Innovativeness and usability.

Additional Information:

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Dated: September 26, 2011.
Farzad Mostashari,
National Coordinator for Health Information Technology.

[FR Doc. 2011-25296 Filed 9-29-11; 8:45 am]

BILLING CODE 4150-45-P